FEDERAL MARITIME COMMISSION

46 CFR Part 531

[Docket No. 05-06]

Non-Vessel-Operating Common Carrier Service Arrangements

AGENCY: Federal Maritime Commission.

ACTION: Notice of inquiry; correction.

SUMMARY: This document corrects a portion of the Notice of Inquiry issued August 30, 2005.

DATES: September 1, 2005.

FOR FURTHER INFORMATION CONTACT: Bryant L. VanBrakle, Secretary, Federal Maritime Commission, 800 N. Capitol St., NW., Room 1046, Washington, DC 20573-0001, Secretary@fmc.gov.

SUPPLEMENTARY INFORMATION: On September 2, 2005, the Federal Maritime Commission published a Notice of Inquiry requesting public comment on possible changes to its exemption for non-vessel-operating common carriers from certain tariff publication requirements of the Shipping Act of 1984. On page 52345 of the Federal Register, in the third column, in the fourth sentence of the SUPPLEMENTARY INFORMATION, the quotation of the Commission's regulation at 46 CFR 531.3(p) incorrectly omitted the phrase “or two or more affiliated NVOCCs.” The entire sentence should read as follows:

The rule defines an NSA as “a written contract, other than a bill of lading or receipt, between one or more NSA shippers and an individual NVOCC or two or more affiliated NVOCCs, in which the NSA shipper makes a commitment to provide a certain minimum quantity or portion of its cargo or freight revenue over a fixed time period, and the NVOCC commits to a certain rate or rate schedule and a defined service level.” 46 CFR 531.3(p).

Bryant L. VanBrakle,
Secretary.

[FR Doc. 05-17780 Filed 9-7-05; 8:45 am]

BILLING CODE 6730-01-P